DEPARTMENT OF COMMERCE

International Trade Administration

[A-821-802]

Antidumping or Countervailing Duty Order, Finding, or Suspended Investigation; Amendment to the Notices of Opportunity To Request Administrative Review

AGENCY: Import Administration, International Trade Administration, Department of Commerce.

ACTION: Amendment to Notices of Opportunity To Request Administrative Review of Antidumping or Countervailing Duty Order, Finding, or Suspended Investigation.

SUMMARY: This is an amendment to the notices of “Opportunity to Request Administrative Review of Antidumping or Countervailing Duty Order, Finding, or Suspended Investigation” with respect to Certain Cut-to-Length Carbon Steel Plate from the Russian Federation, that published on October 1, 2004 (69 FR 58889) and on January 3, 2005 (70 FR 74).

DATES: Effective Date: January 11, 2005.

FOR FURTHER INFORMATION CONTACT: Sally Gannon or Jonathan Herzog, Office of Policy and Negotiations, Bilateral Agreements Unit, Import Administration, International Trade Administration, U.S. Department of Commerce, 14th Street and Constitution Avenue, NW., Washington DC 20230; telephone (202) 482-0162 or (202) 482-4271, respectively.

Background

On October 1, 2004, the Department of Commerce (“the Department”) published a notice providing the opportunity to request an administrative review of the suspension agreement on Cut-to-Length Steel Plate from the Russian Federation (A-821-808) (“CTL Plate Agreement”). See Notice of Opportunity to Request Administrative Review of Antidumping or Countervailing Duty Order, Finding, or Suspended Investigation, 69 FR 58889 (October 1, 2004). However, effective January 23, 2003, the Department signed a new CTL Plate Agreement, which replaced the previous agreement. Therefore, the anniversary month of this suspension agreement should be January, and the previous notice was in error with respect to this case. Thus, the Department is now providing notice of the opportunity to request an administrative review of the CTL Plate Agreement for the period of January 1, 2004 through December 31, 2004.

This notice is published in accordance with sections 751(a) of the Tariff Act of 1930, as amended (19 U.S.C. 1675(a)), and 19 CFR 351.221(c)(1)(I).

Dated: January 4, 2005.
Holly A. Kuga,
Senior Office Director, Office 4 for Import Administration.

[FR Doc. E5-40 Filed 1-10-05; 8:45 am]

BILLING CODE 3510-DS-P